DEPARTMENT OF THE TREASURY

Internal Revenue Service

Proposed Collection; Comment Request for Form 4868; Correction

AGENCY: Internal Revenue Service (IRS), Treasury.

ACTION: Correction to notice and request for comments.

SUMMARY: This document contains a correction to a notice and request for comments, which was published in the Federal Register on Friday, May 21, 2004 (69 FR 29349). This notice relates to a comment request on proposed collection on Form 4868.

FOR FURTHER INFORMATION CONTACT: Allan Hopkins (202) 622-6665 (not a toll-free number).

SUPPLEMENTARY INFORMATION:

Background

The notice and request for comments that is the subject of this correction is required by the Paperwork Reduction Act of 1995, Public Law 104-13 (44 U.S.C. 3506(c)(2)(A)).

Need for Correction

As published, the comment request for Form 4868 contains an error which may prove to be misleading and is in need of clarification.

Correction of Publication

Accordingly, the publication of the comment request for Form 4868, which was the subject of FR Doc. 04-11584, is corrected as follows:

On page 29349, column 2, under the caption SUPPLEMENTARY INFORMATION:, the language, “Title: Mortgage Interest Credit.” is corrected to read “Title: Application for Automatic Extension of Time to File U.S. Individual Income Tax Return.”

Cynthia E. Grigsby,
Acting Chief, Publications and Regulations Branch, Legal Processing Division, Associate Chief Counsel, (Procedures and Administration).

[FR Doc. 04-13186 Filed 6-9-04; 8:45 am]

BILLING CODE 4830-01-P